DEPARTMENT OF THE TREASURY

Internal Revenue Service

Open Meeting of the Taxpayer Advocacy Panel's Special Projects Committee

AGENCY: Internal Revenue Service (IRS), Treasury.

ACTION: Notice of meeting.

SUMMARY: An open meeting of the Taxpayer Advocacy Panel's Special Projects Committee will be conducted. The Taxpayer Advocacy Panel is soliciting public comments, ideas, and suggestions on improving customer service at the Internal Revenue Service. This meeting will be held via teleconference.

DATES: The meeting will be held Thursday, May 8, 2025.

FOR FURTHER INFORMATION CONTACT: Kelvin Johnson at 1-888-912-1227 or 504-202-9679.

SUPPLEMENTARY INFORMATION: Notice is hereby given pursuant to Section 10(a)(2) of the Federal Advisory Committee Act, 5 U.S.C. App. (1988) that an open meeting of the Taxpayer Advocacy Panel's Special Projects Committee will be held Thursday, May 8, 2025, at 11:00 a.m. Eastern Time. The public is invited to make oral comments or submit written statements for consideration. Due to limited time and structure of meeting, notification of intent to participate must be made with Antoinette Ross. For more information please contact Kelvin Johnson at 1-888-912-1227 or 504-202-9679, or write TAP Office, 1555 Poydras Street, Suite 12, New Orleans, LA 70112 or contact us at the website: http://www.improveirs.org. The agenda includes a committee discussion involving new and old issues and starting a new TAP year.

Dated: April 1, 2025.
Shawn Collins,
Director, Taxpayer Advocacy Panel.

[FR Doc. 2025-07549 Filed 4-30-25; 8:45 am]

BILLING CODE 4830-01-P